DEPARTMENT OF HEALTH AND HUMAN SERVICES

Health Resources and Services Administration

Agency Information Collection Activities: Public Comment Request; Information Collection Request Title: Bureau of Primary Health Care Uniform Data System, OMB No. 0915-0193—Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than November 13, 2017.

ADDRESSES: Submit your comments, including the Information Collection Request Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION: When submitting comments or requesting information, please include the information request collection title for reference, in compliance with Section 3506(c)(2)(A) of the Paperwork Reduction Act of 1995.

Information Collection Request Title: Bureau of Primary Health Care Uniform Data System, OMB No. 0915-0193—Revision.

Abstract: The Uniform Data System (UDS) is the Bureau of Primary Health Care's (BPHC) annual reporting system for the HRSA-supported health centers. UDS includes reporting requirements for Health Center Program look-alikes and grantees of the following: Community Health Center program, Migrant Health Center program, Health Care for the Homeless program, and Public Housing Primary Care program. A subset of recipients of the Bureau of Health Workforce's (BHW) Nurse Education, Practice, Quality and Retention (NEPQR) program, specifically those recipients that are funded under the practice priority areas listed under Public Health Services Act (PHSA) Sec. 831(b), are also required to complete UDS annual reporting.

Need and Proposed Use of the Information: HRSA collects UDS data annually to ensure compliance with legislative and regulatory requirements, improve health center performance and operations, and report overall program accomplishments. The data help to identify trends, enabling HRSA to establish or expand targeted programs and identify effective services and interventions to improve the health of medically underserved communities and vulnerable populations. UDS data are compared with national health-related data, including the National Health Interview Survey and National Health and Nutrition Examination Survey to explore potential differences between health center patient populations and the U.S. population at large, and those individuals and families who rely on the health care safety net for primary care. UDS data also inform Health Center Program partners and communities regarding the patients served by health centers.

HRSA received public comment to the Federal Register notice “Bureau of Primary Health Care Uniform Data System” published on May 5, 2017, at 82 FR 21253. We have taken the commenter's suggestions into consideration and have made appropriate adjustments to the data collection instruments.

The UDS data collection will be revised in six ways.

• To support continued efforts to standardize data collection and reduce the burden per respondent of reporting for health centers, HRSA is updating the clinical quality measures in table 6B and 7 to align with the Centers for Medicare & Medicaid Services (CMS) electronic clinical quality measures (e-CQMs) designated for the 2018 reporting period.

• Poor glycemic control is defined as HbA1c >9% per the CMS quality programs and e-specifications. Although clinical recommendations (e.g., American Diabetes Association) suggest that people with diabetes should aim to have an HbA1c ≤7% (or HbA1c<8%), the CMS e-specification only accounts for “poor diabetes control.” Therefore, HRSA is removing this column to be consistent with the Healthy People 2020 national benchmark, CMS eCQMs, and to reduce reporting burden.

• Patient Centered Medical Home (PCMH) recognition assesses a health center's approach to patient-centered care. HRSA routinely receives PCMH recognition data from national quality recognition bodies. Therefore, HRSA is removing this question to reduce reporting burden.

• Telehealth is increasingly used as a method of health care delivery for the health center patient population, especially hard-to-reach patients living in geographically isolated communities. Collecting information on telehealth capacity and use of telehealth is essential for delivering technical assistance to health centers and assuring access to comprehensive, culturally competent, quality primary health care services. Based on the uniqueness of telehealth data and its introduction into the UDS system, HRSA is proposing questions that more precisely describe health center efforts in this area.

• Medication-Assisted Treatment (MAT) has been proven to be an effective treatment option for substance abuse disorder. With the enactment of the Comprehensive Addiction and Recovery Act of 2016, Public Law 114-198, opioid treatment prescribing privileges have been extended beyond physicians to include certain qualifying nurse practitioners (NPs) and physicians' assistants (PAs). As a result, HRSA is updating the MAT for Opioid Use Disorder question in Appendix E of the UDS to include NPs and PAs who have received an appropriate waiver to dispense narcotic drugs.

• In 2016, 98.7% of HRSA supported grantees reported adoption and use of Electronic Health Records (EHRs). The question in Appendix D regarding Meaningful Use attestation stages captures precise data regarding health center participation in the program. HRSA is updating this question to align with the CMS EHR Incentive Program Updates pertaining to attestation titles.

Likely Respondents: The respondents will be HRSA BPHC Health Center Program grantees, look-alikes, and BHW NEPQR Program recipients funded under the practice priority areas listed under PHSA Sec. 831(b).

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Universal Report | 1,471 | 1 | 1,471 | 168 | 247,128
Grant Report | 504 | 1 | 504 | 21 | 10,584
Total | 1,975 |  | 1,975 |  | 257,712

Amy McNulty,
Acting Director, Division of the Executive Secretariat.

[FR Doc. 2017-21844 Filed 10-10-17; 8:45 am]

BILLING CODE 4165-15-P